DEPARTMENT OF COMMERCE

Foreign-Trade Zones Board

(Docket 43-2007)

Foreign-Trade Zone 235 - Lakewood, New Jersey, Application for Expansion, Amendment of Application

Notice is hereby given that the application submitted by the Township of Lakewood, New Jersey, grantee of FTZ 235, requesting authority to expand its existing zone to include additional sites in Cranbury and Jamesburg, New Jersey (72 FR 51406, 9/7/07), has been amended to include two additional sites in Middlesex County.

The proposed sites are located in South Brunswick: Proposed Site 5 (159 acres) Middlesex Center located at 200 Middlesex Drive (listed in application as proposed Site 5A); and, Proposed Site 6 (35 acres) EastPointe Property located on South River Road at the New Jersey Turnpike (listed in application as proposed Site 5B). The sites will provide warehousing and distribution services to area businesses. The application otherwise remains unchanged.

Public comment is invited from interested parties. The comment period is hereby reopened until July 2, 2008. Submissions (original and 3 copies) shall be addressed to the Board's Executive Secretary at the address below.

A copy of the application and the amended is available for public inspection at each of the following locations: Township of Lakewood, Municipal Building, 231 Third Street, Lakewood, NJ 08701; and, Office of the Executive Secretary, Foreign-Trade Zones Board, Room 2111, U.S. Department of Commerce, 1401 Constitution Avenue, NW., Washington, DC 20230. For further information, contact Camille Evans at Camille_Evans@ita.doc.gov or (202) 482-2350.

Dated: May 22, 2008.
Pierre V. Duy,
Acting Executive Secretary.

[FR Doc. E8-12256 Filed 5-30-08; 8:45 am]

BILLING CODE 3510-DS-S